DEPARTMENT OF ENERGY

Federal Energy Regulatory Commission

18 CFR Part 157

[Docket No. RM81-19-000]

Natural Gas Pipelines; Project Cost and Annual Limits

AGENCY: Federal Energy Regulatory Commission, Energy.

ACTION: Final rule.

SUMMARY: Pursuant to the authority delegated by the Commission's regulations, the Director of the Office of Energy Projects (OEP) computes and publishes the project cost and annual limits for natural gas pipelines blanket construction certificates for each calendar year.

DATES: This final rule is effective March 19, 2020 and establishes cost limits applicable from January 1, 2020 through December 31, 2020.

FOR FURTHER INFORMATION CONTACT: Richard W. Foley, Chief, Certificates Branch 1 Division of Pipeline Certificates, (202) 502-8955.

SUPPLEMENTARY INFORMATION: Section 157.208(d) of the Commission's Regulations provides for project cost limits applicable to construction, acquisition, operation and miscellaneous rearrangement of facilities (Table I) authorized under the blanket certificate procedure (Order No. 234, 19 FERC ¶ 61,216). Section 157.215(a) specifies the calendar year dollar limit which may be expended on underground storage testing and development (Table II) authorized under the blanket certificate. Section 157.208(d) requires that the “limits specified in Tables I and II shall be adjusted each calendar year to reflect the 'GDP implicit price deflator' published by the Department of Commerce for the previous calendar year.”

Pursuant to § 375.308(x)(1) of the Commission's Regulations, the authority for the publication of such cost limits, as adjusted for inflation, is delegated to the Director of the Office of Energy Projects. The cost limits for calendar year 2020, as published in Table I of § 157.208(d) and Table II of § 157.215(a), are hereby issued.

Effective Date

This final rule is effective March 19, 2020. The provisions of 5 U.S.C. 804 regarding Congressional review of final rules does not apply to the final rule because the rule concerns agency procedure and practice and will not substantially affect the rights or obligations of non-agency parties. The final rule merely updates amounts published in the Code of Federal Regulations to reflect the Department of Commerce's latest annual determination of the Gross Domestic Product (GDP) implicit price deflator, a mathematical updating required by the Commission's existing regulations.

List of Subjects in 18 CFR Part 157

Administrative practice and procedure, Natural gas, Reporting and recordkeeping requirements.

Issued: March 10, 2020.
Terry L. Turpin,
Director, Office of Energy Projects.

Accordingly, 18 CFR part 157 is amended as follows:

PART 157—[AMENDED]

1. The authority citation for part 157 continues to read as follows:

Authority: 15 U.S.C. 717-717w, 3301-3432; 42 U.S.C. 7101-7352.

2. In § 157.208(d), Table I is amended by adding an entry for “2020” at the end of the table to read as follows:

§ 157.208 Construction, acquisition, operation, replacement, and miscellaneous rearrangement of facilities.

* * * * *

(d) * * *

Table I to Part 157
Year | Limit: Auto. proj. cost limit (Col.1) | Limit: Prior notice proj. cost limit (Col.2)
* * * * * * *
2020 | $12,500,000 | $35,200,000

* * * * *

3. In § 157.215(a)(5), Table II is amended by adding an entry for “2020” at the end of the table to read as follows:

§ 157.215 Underground storage testing and development.

(a) * * *

(5) * * *

Table II to Part 157
Year | Limit
* * * * *
2020 | $6,700,000

* * * * *

[FR Doc. 2020-05339 Filed 3-18-20; 8:45 am]

BILLING CODE 6717-01-P